DEPARTMENT OF ENERGY

Federal Energy Regulatory Commission

[Docket No. CP18-39-000]

Questar Southern Trails Pipeline Company; Notice of Extension of Time Request

Take notice that on April 17, 2020, Questar Southern Trails Pipeline Company (Questar) requested that the Federal Energy Regulatory Commission (Commission) grant an extension of time, until May 9, 2022, to complete its Southern Trail Pipeline Abandonment Project (Project) authorized in the May 9, 2018 Order Approving Abandonment (May 2018 Order).¹ The May 2018 Order required Questar to abandon, within two years of the order date, all of its certificated facilities dedicated to providing jurisdictional transportation services (Questar Southern Trails Facilities) located in California, Arizona, Utah, and New Mexico, in part by sale to the Navajo Tribal Utility Authority (NTUA) and in part by abandonment-in-place.

¹ Questar Southern Trails Pipeline Company, 163 FERC 62,086 (2018).

Questar states that Phase 1 of the two-phased implementation plan, filed on May 23, 2019, was completed on June 29, 2019. Questar asserts that in Phase 2 of the Project, Questar will conclude the Asset Purchase Agreement with the NTUA. Upon closing the transaction, Questar will simultaneously abandon by sale the remaining facilities detailed in the application and abandon its NGA Section 7(c) certificate, the Questar FERC Gas Tariff, and all transportation services. Questar affirms that it and the NTUA continue to diligently seek the consents necessary to finalize the transaction; however, all the necessary consents have not yet been obtained, and as a result, Questar is unable to complete abandonment within the 2-year time frame designated in the Order.

This notice establishes a 15-calendar day intervention and comment period deadline. Any person wishing to comment on the extension motion may do so. No reply comments or answers will be considered. If you wish to obtain legal status by becoming a party to the proceedings for this request, you should, on or before the comment date stated below, file a motion to intervene in accordance with the requirements of the Commission's Rules of Practice and Procedure (18 CFR 385.214 or 385.211) and the Regulations under the Natural Gas Act (18 CFR 157.10). However, only motions to intervene from entities that were party to the underlying proceeding will be accepted.

As a matter of practice, the Commission itself generally acts on requests for extensions of time to complete construction for NGA facilities when such requests are contested before order issuance. For those extension requests that are contested,² the Commission acting as a whole will aim to issue an order acting on the request within 45 days.³ The Commission will address all arguments relating to whether the applicant has demonstrated there is good cause to grant the extension. The Commission will not consider arguments that re-litigate the issuance of the certificate order, including whether the Commission properly found the project to be in the public convenience and necessity and whether the Commission's environmental analysis for the certificate complied with the National Environmental Policy Act.⁴ At the time a pipeline requests an extension of time, orders on certificates of public convenience and necessity are final and the Commission will not re-litigate their issuance. The OEP Director, or his or her designee, will act on all of those extension requests that are uncontested.

² Contested proceedings are those where an intervenor disputes any material issue of the filing. 18 CFR 385.2201(c)(1) (2019).

³ Algonquin Gas Transmission, LLC, 170 FERC 61,144, at P 40 (2020).

⁴ Similarly, the Commission will not re-litigate the issuance of an NGA section 3 authorization, including whether a proposed project is not inconsistent with the public interest and whether the Commission's environmental analysis for the permit order complied with NEPA.

In addition to publishing the full text of this document in the Federal Register, The Commission provides all interested persons an opportunity to view and/or print the contents of this document via the internet through the Commission's Home Page (http://www.ferc.gov) using the eLibrary link. Enter the docket number excluding the last three digits in the docket number field to access the document. At this time, the Commission has suspended access to Commission's Public Reference Room, due to the proclamation declaring a National Emergency concerning the Novel Coronavirus Disease (COVID-19), issued by the President on March 13, 2020. For assistance, contact FERC at FERCOnlineSupport@ferc.gov or call toll-free, (886) 208-3676 or TYY, (202) 502-8659.

The Commission strongly encourages electronic filings of comments, protests and interventions in lieu of paper using the eFiling link at http://www.ferc.gov. Persons unable to file electronically should submit an original and three copies of the protest or intervention to the Federal Energy regulatory Commission, 888 First Street NE, Washington, DC 20426.

Comment Date: 5:00 p.m. Eastern Time on May 7, 2020.

Dated: April 22, 2020.
Kimberly D. Bose,
Secretary.

[FR Doc. 2020-08973 Filed 4-27-20; 8:45 am]

BILLING CODE 6717-01-P